DEPARTMENT OF COMMERCE

National Oceanic and Atmospheric Administration

[RTID 0648-XD177]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Monday, August 14 through Thursday, August 17, 2023. Times are: Monday, Tuesday and Wednesday, from 8 a.m. to 5 p.m.; and Thursday, from 8 a.m. to 4:30 p.m., CDT.

ADDRESSES:

Meeting address: The meeting will take place at The Driskill Hotel, located at 604 Brazos Street, Austin, TX 78701.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, August 14, 2023; 8 a.m.-5 p.m., CDT

The meeting will begin in Full Council with the Induction of New Council Members. Committee Sessions will follow beginning with the Administrative/Budget Committee reviewing the 2021-22 Audit Report and Final 2023 Funded Budget and Activities Report. Information will be presented on the Inflation Reduction Act Funding for the Regional Management Councils.

The Migratory Species Committee will give an update on Atlantic Highly Migratory Species Management Measures; including, Proposed Rule: Amendment 15—Modifications of Four Commercial Longline Spatial Management Areas and Administrative Changes to Pelagic Longline Electronic Monitoring Program, Advanced Notice of Proposed Rulemaking on Electronic Reporting and Scoping: Amendment 16—Revised Catch Limit for Shark Stocks, Modifications to Commercial and Recreational Shark Fisheries Management. The Data Collection Committee will receive an update on the Southeast For-Hire Integrated Reporting (SEFHIER) Program and next steps.

Following lunch, the Sustainable Fisheries Committee will review Rice's Whale Critical Habitat Proposed Rule and Scientific and Statistical Committee (SSC) recommendations for Marine Recreational Information Program (MRIP) Cumulative Estimate Reporting; Technical Guidance for National Standard 1 Reference Points and Status Determinations and Evaluation of Interim Analysis Process. The committee will receive presentations on Allocation Reviews and, review Draft Letter on NOAA Fisheries Request for Comments on the Advance Notice of Proposed Rulemaking for National Standard Guidelines 4, 8 and 9.

The Full Council will meet in a CLOSED SESSION to receive a Litigation update.

Tuesday, August 15, 2023; 8 a.m.-5 p.m., CDT

The Reef Fish Committee will hold a discussion on Gag and Black Grouper Management Alternatives and Shallow-water Grouper Complex Management. The Committee will review Draft Framework Action: Modifications to the Recreational and Commercial Greater Amberjack Management Measures, Draft: Snapper Grouper Amendment 44/Reef Fish Amendment 55: Catch Level Adjustments and Allocations for Southeast U.S. Yellowtail Snapper. The Committee will receive a status updates on Anticipated Endangered Species Act Proposed Rules and Section 7 Consultations, Status and Timeline Updates for Revised Individual Fishing Quota (IFQ) Goals and Objectives and on the Recreational Initiative.

Wednesday, August 16, 2023; 8 a.m.-5 p.m., CDT

The Mackerel Committee will review the SSC Recommendations for Gulf King Mackerel Interim Assessment and SEDAR 81: Gulf Spanish Mackerel Updated Stock Assessment. The Committee will review Proposed Engagement in Mackerel Port Meetings and Amendment to the 2015 Biological Opinion for Coastal Migratory Pelagic Resources in the Gulf of Mexico and Atlantic Region.

The Shrimp Committee will discuss the Re-initiation of Endangered Species Action Section 7 Consultation on the Authorization of the Southeast U.S. Shrimp Fisheries in Federal Waters, Giant Manta Ray and Shrimp Trawl Interactions, and next steps; and, receive a status update of Side-by-Side Testing of Cellular Vessel Monitoring Systems (cVMS) and Cellular Electronic Logbooks (cELBs) on Gulf Shrimp Vessels.

Approximately 11:20 a.m., CDT, the Council will convene with a Call to Order, Announcements and Introductions, Adoption of Agenda and Approval of Minutes. The Council will receive a presentation Update on the Bureau of Ocean Energy Management (BOEM) on Wind Energy Development in the Gulf of Mexico.

The Council will hold public comment testimony from 1:30 p.m. to 5 p.m., CDT on fishery issues or concerns. Public comment may begin earlier than 1:30 p.m. CDT, but will not conclude before that time. Persons wishing to give public testimony in-person must register at the registration kiosk in the meeting room. Persons wishing to give public testimony virtually must sign up via the link on the Council website. Registration for virtual testimony is open at the start of the meeting, Monday, August 14th at 8 a.m., CDT and closes one hour before public testimony begins on Wednesday, August 16th at 12:30 p.m. CDT. Public testimony may end before the published agenda time if all registered in-person and virtual participants have completed their testimony.

Thursday, August 17, 2023; 8 a.m.-4:30 p.m., CDT

The Council will receive Committee reports from Administrative/Budget, Migratory Species, Data Collection, Sustainable Fisheries, Reef Fish, Mackerel and Shrimp Management Committees. The Council will receive updates from the following supporting agencies: Texas Law Enforcement Efforts; South Atlantic Fishery Management Council; NOAA Office of Law Enforcement (OLE); Gulf States Marine Fisheries Commission; U.S. Coast Guard; U.S. Fish and Wildlife Service; and Department of State.

The Council will discuss any Other Business items; any remaining updates on Litigation and hold an Election of Chair and Vice-Chair.

Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: July 17, 2023.
Rey Israel Marquez,
Acting Deputy Director, Office of Sustainable Fisheries, National Marine Fisheries Service.

[FR Doc. 2023-15448 Filed 7-20-23; 8:45 am]

BILLING CODE 3510-22-P